SMALL BUSINESS ADMINISTRATION

[Disaster Declaration # 11189 and # 11190]

Illinois Disaster Number IL-00013

AGENCY: U.S. Small Business Administration.

ACTION: Amendment 1.

SUMMARY: This is an amendment of the Presidential declaration of a major disaster for the State of Illinois ( FEMA-1747-DR ) , dated 03/07/2008.

Incident: Severe Storms and Flooding.

Incident Period: 01/07/2008 and continuing through 03/14/2008.

DATES: Effective Date: 03/14/2008.

Physical Loan Application Deadline Date: 05/06/2008.

EIDL Loan Application Deadline Date: 12/08/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of Illinois, dated 03/07/2008 is hereby amended to establish the incident period for this disaster as beginning 01/07/2008 and continuing through 03/14/2008.

All other information in the original declaration remains unchanged.

(Catalog of Federal Domestic Assistance Numbers 59002 and 59008)

Herbert L. Mitchell,
Associate Administrator for Disaster Assistance.

[FR Doc. E8-6390 Filed 3-27-08; 8:45 am]

BILLING CODE 8025-01-P